NATIONAL AERONAUTICS AND SPACE ADMINISTRATION

[Docket Number NASA-2022-0002; NOTICE: (22-097)]

National Environmental Policy Act; Mars Sample Return Campaign

AGENCY: National Aeronautics and Space Administration.

ACTION: Notice of availability of the Mars Sample Return (MSR) Campaign Draft Programmatic Environmental Impact Statement (PEIS); notice of public meetings; and request for comments; correction.

SUMMARY: The National Aeronautics and Space Administration (NASA) published a document in the Federal Register of November 4, 2022, concerning a notice of availability; notice of public meetings; and request for comments. The location of one of the meetings has changed.

FOR FURTHER INFORMATION CONTACT: Mr. Steve Slaten, National Aeronautics and Space Administration, by electronic mail at Mars-sample-return-nepa@lists.nasa.gov or by telephone at 202-258-0016.

SUPPLEMENTARY INFORMATION: In the Federal Register of November 4, 2022, in [FR Doc. 2022-24065], on page 66752, under Dates, correct the first bullet to: December 6, 2022, in-person meeting: 6 p.m.-8 p.m. MST (local time) at Brinkman Service Club, 352 South Airport Way, Wendover, UT 84083.

Cheryl Parker,
Program Analyst, NASA Directives and Regulations.

[FR Doc. 2022-26375 Filed 12-2-22; 8:45 am]

BILLING CODE 7510-13-P